DEPARTMENT OF STATE

[Public Notice: 9516]

Notice of Intent To Prepare an Environmental Impact Statement for the Proposed Upland Pipeline in Williams, Mountrail, and Burke Counties, North Dakota and Conduct a Public Scoping Meeting

AGENCY: Department of State.

ACTION: Notice.

SUMMARY: The U.S. Department of State (Department) is issuing this Notice of Intent (NOI) to inform the public that it will prepare an Environmental Impact Statement (EIS), consistent with the National Environmental Policy Act (NEPA) of 1969 (as implemented by the Council on Environmental Quality regulations found at 40 CFR parts 1500-1508), to evaluate potential impacts from the construction, connection, operation, and maintenance of a proposed new 20-inch diameter pipeline and associated infrastructure in North Dakota that would export crude oil from the United States to Canada. The Upland Pipeline EIS will address potential direct, indirect, and cumulative environmental impacts from the proposed action and will evaluate a range of reasonable alternatives, including a no action alternative.

The Department also plans to host a public scoping meeting on Tuesday, May 10, 2016 from 4:00-7:00 p.m. at the Farm Festival Building in Tioga, North Dakota to solicit public comments for consideration in establishing the scope of the EIS.

DATES: The Department invites the public, governmental agencies, tribal governments, and all other interested parties to comment on the scope of the EIS. All such comments should be provided within the 45-day public scoping period, which starts with the publication of this Notice in the Federal Register on April 15, 2016 and will continue until May 31, 2016. Written, electronic, and oral comments will be given equal weight and the Department will consider all comments received or postmarked by May 30, 2016. Comments received or postmarked after that date may be considered to the extent practicable.

ADDRESSES: Written comments may be submitted at www.regulations.gov by entering the title of this Notice into the search field and following the prompts. Comments may also be submitted by mail, addressed to: Upland Project Manager, Office of Environmental Quality and Transboundary Issues, Room 2726, U.S. Department of State, 2201 C Street NW., Washington, DC 20520. All comments from agencies or organizations should indicate a contact person for the agency or organization.

Comments may also be submitted at the public scoping meeting on Tuesday, May 10, 2016 from 4:00-7:00 p.m. at the following address: Farm Festival Building, 640 6th Street North, Tioga, North Dakota.

FURTHER INFORMATION: For information contact the Upland Project Manager at the address listed in ADDRESSES, by email at UplandReview@state.gov, or by fax at (202) 647-5947. Information on the proposed project details, Presidential Permit application, status of the environmental review, etc. may be found at: http://www.state.gov/e/enr/applicant/applicants/uplandpipeline/.

SUPPLEMENTARY INFORMATION:

Project Description

On April 22, 2015, Upland Pipeline, LLC (Upland), which is a subsidiary of TransCanada Pipeline Limited, submitted an application for a new Presidential Permit under E. O. 13337 of April 30, 2004 (69 FR 25299) to authorize the construction, connection, operation, and maintenance of pipeline facilities for the export of crude oil, which would be located at the border of the United States and Canada. Upland amended the application on July 8, 2015 to make it compliant with Section 508 of the Rehabilitation Act and added other required clarifications. The Upland project is designed to transport crude oil from the Williston Basin region in North Dakota into Canada.

The proposed pipeline would have the capacity to transport approximately 300,000 barrels per day (bpd) of crude oil. The requested Presidential Permit, if granted, would cover the border segment of pipeline between the northernmost mainline shutoff valve in the United States (Upland plans indicate this will be near milepost 108 of the proposed project route in Burke County, North Dakota) and the United States-Canada border.

The proposed Upland project would consist of approximately 124 miles of new 20-inch diameter pipeline located in Williams, Mountrail, and Burke counties, North Dakota. The proposed pipeline would have 15 mainline valves (MLV), one at each of the five oil receipt facilities and ten located along the pipeline route. The proposed project would include five new aboveground receipt facilities, three of which would also include a pump station at each. Four of the new receipt facilities (near Aune, Epping, Beaver Lodge, and Tioga) would be located on approximately 25-acre sites and each would have one storage tank with a design capacity of 100,000 barrels (bbl). One of the new receipt facilities (Trenton) would be located on an approximately 52-acre site and include one 300,000 bbl oil storage tank. Each of the five receipt facilities would include associated pumps, valves, truck unloading facilities, and support equipment and facilities. Temporary construction facilities would include three pipe yards, four rail sidings, and one contractor yard. Fuel storage would be established at the contractor yard and pipe yards. Access roads would be constructed to provide adequate access to the construction sites and to the receipt facilities and MLVs. The proposed project would also include the establishment of one temporary workforce camp, in Williams County, North Dakota, if needed to meet the housing needs of the construction workforce during construction. In addition to the project facilities, electric power lines and associated facility upgrades would be constructed, as required, by local electric power providers to supply power to the receipt facilities and the MLVs. The facility upgrades would include the construction and installation of new substations and transformers to meet the power demands of the receipt facilities.

The Canadian portion of the Upland Pipeline system would include a 20-inch diameter pipeline that would extend from the United States-Canada border near Northgate, Saskatchewan to Moosomin, Saskatchewan or Cromer, Manitoba. Review and approval of the proposed Canadian facilities will be subject to the jurisdiction of the Canadian National Energy Board as well as various local, municipal, and provincial authorities.

The EIS Process

After due consideration of the nature and extent of the proposed project, including evaluation of the “Environmental Review” section of the Presidential Permit application, and comments received from the public in a previous FR notice published July 31, 2015 (80 FR 45697), the Department, consistent with NEPA, determined that the appropriate level of NEPA review for this project is an EIS. The Department will use the EIS to assess the environmental impacts that could result if Upland is granted a Presidential Permit. The Department will prepare the EIS with the assistance of a third-party contractor and invite cooperating agencies to participate in the development of the EIS.

The EIS will evaluate potential environmental, social, cultural, and economic impacts in the United States from the construction, connection, operation, and maintenance of the proposed pipeline facilities. This Notice is intended to inform agencies and the public of the proposed project, and to solicit comments and suggestions for the Department's consideration in its preparation of the EIS.

The Department intends to analyze impacts across a number of resource areas, including:

• Air quality (including climate change and greenhouse gas emissions);

• Water resources, including wetlands, floodplains, waterways, water supplies and drainage;

• Geography, geology, and soils;

• Land use;

• Threatened and endangered species, special status species, and related sensitive resources;

• Public health and safety;

• Noise;

• Hazardous materials;

• Accidental spills and intentional destructive acts;

• Cultural and historical resources;

• Socioeconomic impacts, community services and infrastructure;

• Environmental justice considerations (disproportionately high and adverse impacts to minority and low income populations); and

• Cumulative impacts (past, present, and reasonably foreseeable future actions).

This list is not intended to be all inclusive or to imply any predetermination of impacts. The Department invites interested parties to suggest specific issues within these general categories, or other issues not included above, to be considered in the EIS. While the President has delegated authority to the Department to issue permits for pipeline facilities at the borders of the United States, the environmental review will analyze impacts along the length of the proposed project in the United States that are dependent upon Permit issuance.

The scoping meeting will be held on May 10, 2016 as detailed in the ADDRESSES section. The meeting will provide interested parties the opportunity to view proposed project exhibits and make comments. Department employees will be available to answer questions and provide additional information to attendees to the extent that additional information is available at this early stage of the environmental review. Persons who do not wish to submit comments or suggestions at this time but who would like to receive status updates on the EIS process, including a notification when the Draft EIS is available for review and comment, should notify the Upland Project Manager, as provided in ADDRESSES or go to http://www.state.gov/e/enr/applicant/applicants/uplandpipeline/ to register to be on the mailing list.

All comments received during the scoping period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

Deborah Klepp,
Director, Office of Environmental Quality and Transboundary Issues, Department of State.

[FR Doc. 2016-08638 Filed 4-14-16; 8:45 am]

BILLING CODE 4710-09-P